DEPARTMENT OF THE TREASURY

Office of Thrift Supervision

NetBank, Alpharetta, GA; Notice of Appointment of Receiver

Notice is hereby given that, pursuant to the authority contained in section 5(d)(2) of the Home Owner's Loan Act, the Office of Thrift Supervision has duly appointed the Federal Deposit Insurance Corporation as sole Receiver for the NetBank, Alpharetta, Georgia (OTS No. 8475), on September 28, 2007.

Dated: October 2, 2007.
By the Office of Thrift Supervision.
Sandra E. Evans,
Legal Information Assistant.

[FR Doc. 07-4957 Filed 10-4-07; 8:45 am]

BILLING CODE 6720-01-M